DEPARTMENT OF AGRICULTURE

Office of Advocacy and Outreach

Beginning Farmers and Ranchers Advisory Committee

AGENCY: Office of Advocacy and Outreach, USDA.

ACTION: Notice of public meeting.

SUMMARY: Pursuant to the Federal Advisory Committee Act (FACA), the Office of Advocacy and Outreach (OAO) is announcing a meeting of the Beginning Farmers and Ranchers Advisory Committee (BFRAC). USDA Secretary Perdue has outlined a bold agenda to help support farmers and ranchers that includes: Maximizing the ability of farmers and ranchers to produce and thrive as businesses, enhancing USDA's customer service, ensuring a food secure nation, and effectively stewarding our natural resources. Together, these principals will usher in empowerment among those in the rural agricultural communities, business growth and prosperity, and bright futures for the next generation for farmers and ranchers. The BFRAC will be pivotal in its liaison role that informs and advises the Secretary of actions that may be taken to further rural agriculture growth and support for our next generation of farmers and ranchers. The BFRAC will help ready the USDA to stay relevant for the next generation of customers and assist them with the challenges of today and those they will face in coming years.

During this public meeting, the BFRAC will deliberate upon matters focused on, including but not limited to, the following: (1) Marketplace; (2) Monitoring and Evaluation; (3) Partnerships; and (4) Veteran farmers and ranchers.

From these topics the BFRAC will deliberate and form its final set of recommendations for the current term. The BFRAC specifically seeks to engage and hear directly from a broad cross-section of beginning farmers, particularly from those farmers and ranchers in Florida (and neighboring states) on their experiences, pathways, and challenges as they entered into farming or ranching. We will want to hear about what was helpful, successful pathways, and barriers of entry or other challenges. We encourage all from the region to attend, including those from organizations who support farmers and ranchers—seeking a large cross-section of farm type or farm size, geographic and ethnic diversity, and supporting organizations.

DATES: The BFRAC meeting will begin on April 3, 2018 (half-day), from 1:00 p.m.-4:30 p.m. EST; and on April 4-5, 2018, from 8:30-5:00 p.m. This notice is less than the 15-day requirement due to unexpected procurement actions. A listen-only conference call line will be available for all who wish to listen in on the proceeding by phone at: (888) 455-1685 and passcode 7087935. There will be time allotted each day for comments from those attending. All persons wishing to make comments during this meeting must check-in each day at the registration table. If the number of registrants requesting to speak is greater than what can be reasonably accommodated during the scheduled open public hearing session timeframe, OAO may conduct a lottery to determine the speakers for the scheduled public comment session.

ADDRESSES: This meeting will be held at the Tampa Marriott Westshore, 1001 N Westshore Boulevard, Tampa, Florida 33607. You may reach the hotel directly on (813) 287-2555 or visit: www.marriott.com/tpawe. A listen-only conference call line will be available for all who wish to listen in on the proceeding by phone at: (888) 455-1685 and passcode 7087935.

FOR FURTHER INFORMATION CONTACT: Questions should be directed to Phyllis Morgan, Executive Assistant, OAO, 1400 Independence Ave. SW, Whitten Bldg., 520-A, Washington, DC 20250, (202) 720-6350, Fax: (202) 720-7704, or email: Phyllis.Morgan@osec.usda.gov.

Written comments for the Committee's consideration may be submitted, by or before COB March 29, 2018, to Mrs. Kenya Nicholas, Designated Federal Officer, USDA OAO, 1400 Independence Avenue, Room 520-A, Washington, DC 20250-0170; Telephone (202) 720-6350; Fax (202) 720-7704; Email: kenya.nicholas@osec.usda.gov.

SUPPLEMENTARY INFORMATION: The Committee was established pursuant to Section 5 of the Agricultural Credit Improvement Act of 1992. The Secretary of Agriculture selected a diverse group of members representing a broad spectrum of persons interested in providing solutions to the challenges of new farmers and ranchers. Please visit our website at: http://www.outreach.usda.gov/smallbeginning/index.htm for additional information on the advisory committee.

Register for the Meeting: The public is asked to pre-register for the meeting by March 29, 2018. Your pre-registration must state: The names of each person in your group; organization or interest represented; the number of people planning to give oral comments, if any; and whether anyone in your group requires special accommodations. Submit registrations to Kenya Nicholas via email at: Kenya.Nicholas@osec.usda.gov or via fax at (202) 720-7704 by March 29, 2018. Members of the public who request to give oral comments to the Committee, will be given their allotted time limit and turn at the check-in table. Please remember that the comments given will be added to the committee records and will not be an opportunity to interact with the committee members.

Public Comments: Written public comments may be mailed to Kenya Nicholas, DFO, MS-0601, 1400 Independence Avenue SW, Washington, DC 20250 or submitted via fax at (202) 720-7704 or email at Kenya.nicholas@osec.usda.gov. All written comments must arrive by March 29, 2018, and may be read into the record. To make public comments during the meeting, see instructions under `Register for the Meeting' above.

Availability of Materials for the Meeting: All written public comments will be compiled and available for review at the meeting. Duplicate comments from multiple individuals will appear as one comment, with a notation that multiple copies of the comment were received. The final agenda will be available to the public via the OAO website at: http://www.outreach.usda.gov/smallbeginning/index.htm.

Meeting Accommodations: USDA is committed to ensuring that all are included in our work environment, programs and events. If you are a person with a disability and request reasonable accommodations to participate in this meeting, please note the request in your registration. All requests are managed on a case-by-case basis.

Issued at Washington, DC, on March 16, 2018.
Christian Obineme,
Acting Director, Office of Advocacy and Outreach.

[FR Doc. 2018-06037 Filed 3-23-18; 8:45 am]

BILLING CODE P